NATIONAL CREDIT UNION ADMINISTRATION

Sunshine Act Meeting Notice Matter To Be Added to the Agenda for Consideration at an Agency Meeting

Federal Register CITATION OF PREVIOUS ANNOUNCEMENT: JULY 28, 2014 (79 FR 43782)

TIME AND DATE: 11:45 a.m., Thursday, July 31, 2014.

PLACE: Board Room, 7th Floor, Room 7047, 1775 Duke Street, Alexandria, VA 22314-3428.

STATUS: Closed.

Pursuant to the provisions of the “Government in Sunshine Act” notice is hereby given that the NCUA Board gave notice on July 24, 2014 (published on July 28, 2014 at 79 FR 43782) of the regular meeting of the NCUA Board scheduled for July 31, 2014. Prior to the meeting, on July 30, 2014, with less than seven days' notice to the public, the NCUA Board unanimously determined that agency business required changing the previously announced closed meeting time from 11:45 a.m. to 9:00 a.m. No earlier notice of the change was possible.

REVISED TIME: 9:00 a.m., Thursday, July 31, 2014

FOR FURTHER INFORMATION CONTACT: Gerard Poliquin, Secretary of the Board, Telephone: 703-518-6304

Gerard Poliquin,
Secretary of the Board.

[FR Doc. 2014-18511 Filed 7-31-14; 4:15 pm]

BILLING CODE 7535-01-P